DEPARTMENT OF THE INTERIOR

Bureau of Land Management

[ES-032-04-1610-DU]

Notice of Availability of Lower Potomac River Proposed Coordinated Management Plan, Charles County, MD

AGENCY: Bureau of Land Management, Interior.

ACTION: Notice of availability.

SUMMARY: The Bureau of Land Management (BLM), in cooperation with the Maryland Department of Natural Resources (MD DNR), has prepared the Lower Potomac River Proposed Coordinated Management Plan (CMP) to determine the appropriate uses of Federal and state land located in Charles County, Maryland. The planning area encompasses approximately 32,000 acres in Charles County, and includes approximately 1,300 acres of public land managed by the BLM-Eastern States Office and MD DNR.

When approved, the CMP will provide land use planning level decisions for BLM-administered lands in the region and set criteria for possible future land acquisitions. The State of Maryland will also use the CMP to provide a context for management decisions and site-specific planning for the properties under its jurisdiction. An environmental assessment (EA) prepared under the National Environmental Policy Act of 1969 (NEPA) accompanies the Proposed CMP.

This notice is issued pursuant to Title 43 CFR 1610.2(f)(3). The Proposed CMP followed the procedures set forth in 43 CFR 1610.5-5.

Public Participation: The draft CMP was available for public review and comment from August 5, 2003, to October 5, 2003. Written comments were received from individuals, agencies, and interest groups. All comments received during the comment period were considered in the preparation of the Proposed CMP. A public meeting on the Draft CMP was held in La Plata, MD, on August 20, 2003.

Protest Instructions: The CMP serves the planning needs of both the BLM and the Maryland DNR. The BLM planning process includes an opportunity for review of the BLM State Director's proposed decisions through the mechanism of a plan protest to the BLM Director. Any person or organization that participated in the planning process and has an interest which is, or may be, adversely affected by approval of the Proposed CMP may protest the plan. Careful adherence to the following guidelines will assist in preparing a protest:

1. Protests may only relate to proposals affecting BLM lands and the environmental analysis included in the CMP.

2. Comments received by BLM that pertain to, or are relevant to the State-owned lands discussed in the CMP, will be forwarded to MD DNR for its review and consideration.

3. Only those persons or organizations that participated in the planning process may file a protest.

4. A protesting party may only raise those issues that were raised or commented on during the planning process.

In order to be considered complete, a protest must contain at a minimum, the following information:

1. The name, mailing address, telephone number, and the interest of the person filing the protest.

2. A statement of the issue being protested.

3. A statement of the portion of the plan being protested. To the extent possible, this should be done by reference to specific pages, paragraphs, sections, tables, and maps in the Proposed CMP.

4. A copy of all documents addressing the issue submitted during the planning process or a reference to the date the issue was discussed for the record.

5. A concise statement explaining why the BLM Director's decision is believed to be incorrect is a critical part of the protest. Take care to document all relevant facts and reference and/or cite the planning documents, environmental analysis documents and available planning records (summaries, correspondence). A protest without any supporting data will not provide the BLM with sufficient information; the Director's review will be based on existing analysis and supporting data.

E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, by e-mail to Brenda_Hudgens-Williams@blm.gov. A commenter/protestor may request confidentiality of his/her personal information (i.e., name and home address) and BLM will honor such requests to the extent allowed by law. Organizations or businesses may not request confidentiality. Generally, the names and business addresses of individuals listed as representatives or officials of organizations or businesses are not protected and are always available for public review.

DATES: This notice begins the 30-day public protest period for the Lower Potomac River Proposed CMP. All protest letters must be postmarked by June 7, 2004. There is no provision for any extension of time. Although not a requirement, sending a protest by certified mail, return receipt requested, is recommended. Comment letters regarding State of Maryland lands and its management responsibilities should be postmarked by the date above.

Protest Filing Addresses: Protests submitted electronically will not be accepted. All protest letters must be sent to one of the following addresses: Director (210), Attention: Brenda Williams, P.O. Box 66538, Washington, DC 20035 or overnight mail, Director (210), Attention: Brenda Williams, 1620 L Street, NW., Room 1075, Washington, DC 20036. Comment letters regarding proposals affecting State of Maryland lands and properties and its management responsibilities should be mailed to Barbara Grey, Maryland Department of Natural Resources, Tawes State Office Building, E-4, 580 Taylor Avenue, Annapolis, MD 21401.

FOR FURTHER INFORMATION CONTACT: For further information, you may contact Howard Levine, Milwaukee Field Office, 626 East Wisconsin Avenue, Suite 200, Milwaukee, WI 53202, (414) 297-4463, or by electronic mail at Howard.Levine@blm.gov. For information related specifically to state lands you may contact Barbara Grey, MD DNR at (410) 260-8408, or by electronic mail at bgrey@dnr.state.md.us. You may view or download an electronic version of the Proposed CMP from the BLM-Eastern States Web site at http://www.es.blm.gov.

SUPPLEMENTARY INFORMATION: In 2001, BLM and the MD DNR acquired a tract of land along the Potomac River at Douglas Point in Charles County. This and other State and BLM properties and lands in the region are located 30 miles south of the Washington Beltway and represent some of the last remaining undeveloped lands in the fast growing Washington, DC metropolitan region. The BLM and MD DNR partnership serves to protect the study area's varied cultural, historical and natural resources. A key goal of the planning process is to identify ways in which public land management may contribute to local economic development. The Proposed CMP was developed in collaboration with Charles County and with significant local community involvement.

The four Alternatives analyzed in the CMP presented a reasonable range of management options to address the issues raised during planning: Alternative 1—No action; Alternative 2—Heritage; Alternative 3—Nature Tourism; Alternative 4—Community Vision. The Proposed Plan is essentially Alternative 4 with the addition of a boat ramp on the State's Wilson Farm tract and selective timber harvesting on State lands pending a Forest Management Plan. The environmental impacts of each alternative, including the Proposed Plan, are discussed in the Proposed CMP. A copy of the Proposed CMP will be sent to all individuals, agencies and organizations that have expressed interest in the project.

Dated: December 16, 2003.
Michael D. Nedd,
State Director, BLM-Eastern States.

Editorial Note: This document was received in the Office of the Federal Register on May 4, 2004.

[FR Doc. 04-10442 Filed 5-6-04; 8:45 am]

BILLING CODE 4310-$$-P